ELECTION ASSISTANCE COMMISSION

Sunshine Act Notice

AGENCY: U.S. Election Assistance Commission.

ACTION: Notice of Public Meeting (Amended).

Date and Time: Tuesday, August 5, 2008, 12 Noon-3 p.m.

Place: U.S. Election Assistance Commission, 1225 New York Ave, NW., Suite 150, Washington, DC 20005 (Metro Stop: Metro Center).

Agenda: Commissioners will hold a workshop discussion on Preparing for Election Day 2008 and Statewide Voter Registration Databases. Commissioners will consider and vote on whether to modify Advisory Opinion 07-003-A regarding Maintenance of Effort (MOE) funding, pursuant to HAVA Section 254(a)(7). Commissioners will consider and vote on a Proposed Replacement Advisory Opinion 07-003-B Regarding Maintenance of Effort. Commissioners will consider a Draft Policy for Notice and Public Comment; Commissioners will consider a Draft Policy for Joint Partnership Task Force of EAC and State Election Officials Regarding Spending of HAVA Funds; Commissioners will consider Proposed Administrative Regulations. Commissioners will receive a briefing regarding the Research Department Work Plan. The Commission will consider other administrative matters.

This meeting will be open to the public.

Person To Contact For Information: Bryan Whitener, Telephone: (202) 566-3100.

Rosemary E. Rodriguez,
Chair, U.S. Election Assistance Commission.

[FR Doc. E8-17751 Filed 7-31-08; 8:45 am]

BILLING CODE 6820-KF-P